DEPARTMENT OF LABOR

Employment and Training Administration

Notice of a Change in Status of an Extended Benefit (EB) Program for Indiana, Maine, and Montana

AGENCY: Employment and Training Administration, Labor.

ACTION: Notice.

SUMMARY: This notice announces a change in benefit period eligibility under the EB program for Indiana, Maine, and Montana.

FOR FURTHER INFORMATION CONTACT: U.S. Department of Labor, Employment and Training Administration, Office of Unemployment Insurance, Room S-4524, Attn: Thomas Stengle, 200 Constitution Avenue NW, Washington, DC 20210, telephone number (202) 693-2991 (this is not a toll-free number) or by email: Stengle.Thomas@dol.gov.

SUPPLEMENTARY INFORMATION: The following changes have occurred since the publication of the last notice regarding the State's EB status:

• Indiana's 13-week insured unemployment rate (IUR) for the week ending October 24, 2020, was 4.85 percent, falling below the 5.00 percent threshold necessary to remain “on” EB. Therefore, the EB period for Indiana ends on November 14, 2020. The state will remain in an “off” period for a minimum of 13 weeks.

• Maine's 13-week insured unemployment rate (IUR) for the week ending October 24, 2020, was 4.88 percent, falling below the 5.00 percent threshold necessary to remain “on” EB. Therefore, the EB period for Maine ends on November 14, 2020. The state will remain in an “off” period for a minimum of 13 weeks.

• Montana's 13-week insured unemployment rate (IUR) for the week ending October 24, 2020, was 4.69 percent, falling below the 5.00 percent threshold necessary to remain “on” EB. Therefore, the EB period for Montana ends on November 14, 2020. The state will remain in an “off” period for a minimum of 13 weeks.

Information for Claimants

The duration of benefits payable in the EB Program, and the terms and conditions on which they are payable, are governed by the Federal-State Extended Unemployment Compensation Act of 1970, as amended, and the operating instructions issued to the state by the U.S. Department of Labor. In the case of a state ending an EB period, the State Workforce Agency will furnish a written notice to each individual who is currently filing claims for EB of the forthcoming termination of the EB period and its effect on the individual's right to EB (20 CFR 615.13(c)).

Signed in Washington, DC.
John Pallasch,
Assistant Secretary for Employment and Training.

[FR Doc. 2020-25963 Filed 11-23-20; 8:45 am]

BILLING CODE 4510-FW-P